DEPARTMENT OF COMMERCE

National Oceanic and Atmospheric Administration

[I.D. 081604C]

Advisory Committee to the U.S. Section of the International Commission for the Conservation of Atlantic Tunas (ICCAT); Summer Meeting

AGENCY: National Marine Fisheries Service (NMFS), National Oceanic and Atmospheric Administration (NOAA), Commerce.

ACTION: Notice of meeting; correction.

SUMMARY: In preparation for the 2006 ICCAT meeting, the Advisory Committee to the U.S. Section to the International Commission for the Conservation of Atlantic Tunas (ICCAT) will have a summer meeting. There will be an open session the morning of Monday June 26, 2006, beginning at 9 am. The remainder of the meeting will be closed to the public.

DATES: The meeting will be held June 26-27, 2006.

ADDRESSES: The meeting will be held at the Hilton Hotel, 8727 Colesville Road, Silver Spring, MD 20910.

FOR FURTHER INFORMATION CONTACT: Kelly Denit, Office of International Affairs, 301-713-2276.

SUPPLEMENTARY INFORMATION: The Advisory Committee to the U.S. Section to ICCAT will meet in an open session to consider information on stock status of highly migratory species. In a previous Federal Register Notice (71 FR 32526, June 6, 2006), NMFS indicated that the entire meeting would be in closed session. This notice announces that there will be an open session. After the open session the Advisory Committee to the U.S. Section to ICCAT will meet in a closed session to discuss sensitive information relating to upcoming international negotiations.

Special Accommodations

The meeting locations are physically accessible to people with disabilities. Requests for sign language interpretation or other auxiliary aids should be directed to Kelly Denit at (301) 713-2276 at least 5 days prior to the meeting date.

Dated: June 8, 2006.
William T. Hogarth,
Assistant Administrator for Fisheries, National Marine Fisheries Service.

[FR Doc. E6-9212 Filed 6-12-06; 8:45 am]

BILLING CODE 3510-22-S